NATIONAL AERONAUTICS AND SPACE ADMINISTRATION

[Notice: 23-056]

NASA Planetary Science Advisory Committee; Meeting

AGENCY: National Aeronautics and Space Administration.

ACTION: Notice of meeting.

SUMMARY: In accordance with the Federal Advisory Committee Act, as amended, the National Aeronautics and Space Administration (NASA) announces a meeting of the Planetary Science Advisory Committee. The meeting will be held for the purpose of soliciting, from the scientific community and other persons, scientific and technical information relevant to program planning.

DATES: Wednesday, June 21, 2023, 10:00 a.m. to 6:00 p.m.; Thursday, June 22, 2023, 10:00 a.m. to 6:00 p.m.; and Friday, June 23, 2023, 10:00 a.m. to 1:45 p.m. All times are Eastern Time.

ADDRESSES: NASA Headquarters, Room 3D42, 300 E Street SW, Washington DC 20546.

FOR FURTHER INFORMATION CONTACT: Ms. KarShelia Kinard, Science Mission Directorate, NASA Headquarters, Washington, DC 20546, (202) 358-2355 or karshelia.kinard@nasa.gov.

SUPPLEMENTARY INFORMATION: The meeting will be open to the public up to the capacity of the room. The meeting will also be available telephonically and via WebEx.

For Wednesday, June 21, 2023, the WebEx information for attendees is: https://nasaenterprise.webex.com/nasaenterprise/j.php?MTID=m41bc7791ebe2e16d1d484ed2ec96910b. The Webinar number is: 2764 988 8687 and the Webinar password is: PAC-062123 (72200622 from phones and video systems). To join by telephone call, use US Toll: +1-415-527-5035 (Access Code: 276 498 88687).

For Thursday, June 22, 2023, the WebEx information for attendees is: https://nasaenterprise.webex.com/nasaenterprise/j.php?MTID=m5a295da1e9be7b90e72081dcf4f01e5c. The Webinar number is: 2761 475 7043 and the Webinar password is: PAC-062223 (72200623 from phones and video systems). To join by telephone call, use US Toll: +1-415-527-5035 (Access Code: 276 147 57043).

For Friday, June 23, 2023, the WebEx information for attendees is: https://nasaenterprise.webex.com/nasaenterprise/j.php?MTID=m78620ea3afb3dc3530ed019526f43966. The Webinar number is: 2760 051 3284 and the Webinar password is: PAC-062323 (72200624 from phones and video systems). To join by telephone call, use US Toll: +1-415-527-5035 (Access Code: 276 005 13284).

Accessibility: Captioning will be provided for this meeting. We are committed to providing equal access to this meeting for all participants. If you need alternative formats or other reasonable accommodations, please contact Ms. KarShelia Kinard, Science Mission Directorate, NASA Headquarters, Washington, DC 20546, (202) 358-2355 or karshelia.kinard@nasa.gov.

The agenda for the meeting includes the following topics:

—Planetary Science Division Update

—Planetary Science Division Research and Analysis Program Update

—Mars Sample Return Update

It is imperative that the meeting be held on these dates to accommodate the scheduling priorities of the key participants.

Patricia Rausch,
Advisory Committee Management Officer, National Aeronautics and Space Administration.

[FR Doc. 2023-11045 Filed 5-23-23; 8:45 am]

BILLING CODE 7510-13-P